DEPARTMENT OF HEALTH AND HUMAN SERVICES

Administration for Children and Families

Submission for OMB Review; Data Collection for the Engaging Fathers and Paternal Relatives: A Continuous Quality Improvement Approach in the Child Welfare System Project (New Collection)

AGENCY: Office of Planning, Research, and Evaluation, Administration for Children and Families, HHS.

ACTION: Request for public comment.

SUMMARY: The Office of Planning, Research, and Evaluation (OPRE) within the Administration for Children and Families (ACF) is proposing to conduct data collection activities for the Engaging Fathers and Paternal Relatives: A Continuous Quality Improvement Approach in the Child Welfare System (FCL) Project. This evaluation is a descriptive study of child welfare agencies' use of a continuous quality improvement process called the Breakthrough Series Collaborative (BSC) to implement strategies to improve father and paternal relative engagement in the child welfare system. The project is designed to examine the use of the BSC methodology to strengthen fathers' and paternal relatives' engagement with children involved in child welfare and to add to the evidence base on engagement strategies for fathers and paternal relatives in child welfare.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The FCL evaluation has three equally important aims. The first is to describe promising strategies and approaches for engaging fathers and paternal relatives in the child welfare system. The second is to assess the promise of the BSC as a continuous quality improvement framework for addressing challenges in the child welfare system, including whether and to what extent the BSC has potential, and if so, how it may be applied to other child welfare challenges. The third is to assess the extent to which agencies experienced a shift in organizational culture in terms of the importance of father engagement.

The descriptive evaluation will build on the findings of the pilot study conducted under the umbrella generic: Formative Data Collections for ACF Program Support (OMB #0970-0531). (Site selection for the pilot study was conducted under the umbrella generic: Formative Data Collections for ACF Research (OMB #0970-0356). It will focus on organizational changes and network supports for father and paternal relative engagement, changes in staff attitudes and skills for engaging fathers and paternal relatives, and father and paternal relative engagement outcomes. This evaluation will explore the implementation of father and paternal relative engagement strategies and approaches by examining process outcomes. By examining process outcomes, the evaluation is designed to indicate whether strategies and approaches developed in the BSC are likely to lead to placement stability and permanency outcomes.

Data collection will take place with stakeholders in five child welfare agencies implementing the BSC (including one agency that had two separate teams participate in the earlier pilot study). Data collection activities include discussions with participating agency staff and key partners during site visits, focus groups or interviews with fathers and paternal relatives with relatively recent experience with the focal child welfare agencies, and web surveys of participating agency staff.

Respondents: Child welfare agency leaders, child welfare agency program staff and key partner staff involved in implementing the engagement strategies; community stakeholders whose role has intersected with the child welfare agency and who have an interest in father and paternal relative engagement; and, father and paternal relative clients of the agencies. Program staff may include senior leaders, managers, and frontline staff.

Annual Burden Estimates
Instrument | Number of respondents (total over request period) | Number of responses per respondent (total over request period) | Avg. burden per response (in hours) | Total burden (in hours) | Annual burden (in hours)
Interview topic guide | 230 | 1 | 1.5 | 345 | 173
Father and paternal relative focus group protocol | 72 | 1 | 1.5 | 108 | 54
Staff survey | 360 | 2 | 0.333 | 240 | 120

Estimated Total Annual Burden Hours: 347.

Authority:

Sec. 403. [42 U.S.C. 603] and Sec. 426. [42 U.S.C. 626]

Mary B. Jones,
ACF/OPRE Certifying Officer.

[FR Doc. 2021-17263 Filed 8-11-21; 8:45 am]

BILLING CODE 4184-73-P